ENVIRONMENTAL PROTECTION AGENCY

40 CFR Part 55

[Alaska 001; FRL -7082-4]

Outer Continental Shelf Air Regulations; Consistency Update for Alaska

AGENCY: Environmental Protection Agency (“EPA”).

ACTION: Final rule; Removal of amendment and reinstatement of regulatory text.

SUMMARY: On March 1, 2001, the EPA published a direct final rule (66 FR 12982), and an accompanying proposed rule (66 FR 12986) updating the Outer Continental Shelf (“OCS”) Air Regulations as they apply to OCS sources off the coast of Alaska.

The direct final rule indicated that the rule was effective April 16, 2001, unless EPA received adverse comment on the rule by April 2, 2001. The Federal Register action also indicated that if adverse comment was received, EPA would publish a withdrawal of the final rule.

On March 9, 2001, EPA received adverse comments from the International Association of Drilling Contractors. Accordingly, EPA is removing the amendment made by that final rule due to the adverse public comments received and reinstating the previous regulatory text. In a subsequent action, EPA will summarize and respond to the comments received on the OCS Air Regulations as they apply to OCS sources off the coast of Alaska.

DATES: This rule is effective October 23, 2001. The incorporation by reference of certain publications listed in this rule is approved by the Director of the Federal Register as of October 23, 2001.

ADDRESSES: Copies of the documents relevant to this action are available for public inspection during normal business hours at the following location: U.S. Environmental Protection Agency, Region 10, 1200 Sixth Avenue, Seattle, Washington, 98101. Interested persons wanting to examine these documents should make an appointment with the appropriate office at least 24 hours before the visiting day.

FOR FURTHER INFORMATION CONTACT: Dan Meyer, Office of Air Quality (OAQ-107), U.S. EPA Region 10, 1200 Sixth Avenue, Seattle, WA 98101, Telephone: (206) 553-4150.

List of Subjects in 40 CFR Part 55

Environmental protection, Administrative practice and procedures, Air pollution control, Hydrocarbons, Incorporation by reference, Intergovernmental relations, Nitrogen dioxide, Nitrogen oxides, Outer Continental Shelf, Ozone, Particulate matter, Permits, Reporting and recordkeeping requirements, Sulfur oxides.

Dated: September 24, 2001.
Charles E. Findley,
Acting Regional Administrator, Region 10.

Title 40 of the Code of Federal Regulations, part 55, is amended as follows:

PART 55—[AMENDED]

1. The authority citation for part 55 continues to read as follows:

Authority: Section 328 of the Act (42 U.S.C. 7401, et seq.) as amended by Public Law 101-549.

2. Section 55.14 is amended by revising paragraph (e)(2)(i)(A) to read as follows:

§ 55.14 Requirements that apply to OCS sources located within 25 miles of States' seaward boundaries, by State.

* * * * *

(e) * * *

(2) * * *

(i) * * *

(A) State of Alaska Requirements Applicable to OCS Sources, January 18, 1997.

* * * * *

3. Appendix A to CFR part 55 is amended by revising paragraph (a)(1) under the heading “Alaska” to read as follows:

Appendix A to 40 CFR Part 55—Listing of State and Local Requirements Incorporated by Reference Into Part 55, by State.

* * * * *

Alaska

(a) ***

(1) The following requirements are contained in the State of Alaska Requirements Applicable to OCS Sources, January 18, 1997.

Alaska Administrative Code—Department of Environmental Conservation.

The following sections of Title 18, Chapter 50:

Article 1. Ambient Air Quality Management

18 AAC 50.005. Purpose and Applicability of Chapter (effective 1/18/97)

18 AAC 50.010. Ambient Air Quality Standards (effective 1/18/97)

18 AAC 50.015. Air Quality Designations, Classifications, And Control Regions (effective 1/18/97)

Table 1. Air Quality Classifications

18 AAC 50.020. Baseline Dates, Maximum Allowable Increases, And Maximum

Allowable Ambient Concentrations (effective 1/18/97)

Table 2. Baseline Dates

Table 3. Maximum Allowable Increases AAC 50.025. Visibility and Other Special Protection Areas with the exception of (b) and (c) (effective 1/18/97)

18 AAC 50.030. State Air Quality Control Plan (effective 1/18/97)

18 AAC 50.035. Documents, Procedures, and Methods Adopted by Reference (effective 1/18/97)2

18 AAC 50.045. Prohibitions (effective 1/18/97)

18 AAC 50.050. Incinerator Emission Standards (effective 1/18/97)

Table 4. Particulate Matter Standards for Incinerators

18 AAC 50.055. Industrial Processes and Fuel-burning Equipment (effective 1/18/97)

18 AAC 50.065. Open Burning (effective 1/18/97)

(a) General Requirements

(b) Black Smoke Prohibited

(c) Toxic and Acid Gases and Particulate Matter Prohibited

(d) Adverse Effects Prohibited

(e) Air Quality Advisory

(i) Firefighter Training: Fuel Burning

(j) Public Notice

(k) Complaints

18 AAC 50.070. Marine Vessel Visible Emission Standards (effective 1/18/97)

18 AAC 50.080. Ice Fog Standards (effective 1/18/97)

18 AAC 50.100. Nonroad Engines (effective 1/18/97)

18 AAC 50.110. Air Pollution Prohibited (effective 5/26/72)

Article 2. Program Administration

18 AAC 50.201. Ambient Air Quality Investigation (effective 1/18/97)

18 AAC 50.205. Certification (effective 1/18/97)

18 AAC 50.210. Potential to Emit (effective 1/18/97)

18 AAC 50.215. Ambient Air Quality Analysis Methods (effective 1/18/97)

18 AAC 50.220. Enforceable Test Methods (effective 1/18/97)

18 AAC 50.225. Owner-requested Limits (effective 1/18/97)

18 AAC 50.230. Preapproved Limits (effective 1/18/97)

18 AAC 50.235. Unavoidable Emergencies and Malfunctions (effective 1/18/97)

18 AAC 50.240. Excess Emissions (effective 1/18/97)

Article 3. Permit Procedures and Requirements

18 AAC 50.300. Construction Permits: Classifications (effective 1/18/97)

(a) [untitled]

(b) Ambient Air Quality Facilities

(c) Prevention of Significant Deterioration Major Facilities

(d) Nonattainment Major Facilities

(e) Major Facility Near a Nonattainment Area

(f) Hazardous Air Contaminant Major Facilities

(g) Port of Anchorage Facilities

(h) Modifications

18 AAC 50.305. Construction Permit Provisions Requested by the Owner or Operator (effective 1/18/97)

18 AAC 50.310. Construction Permits: Application (effective 1/18/97)

(a) Application Required

(b) Operating Permit Coordination

(c) General Information

(d) Prevention of Significant Deterioration Information

Table 6. Significant Concentrations

(e) Excluded Ambient Air Monitoring

(f) Nonattainment Information

(g) Demonstration Required Near A Nonattainment Area

(h) Hazardous Air Contaminant Information

(j) Nonattainment Air Contaminant Reductions

(k) Revising Permit Terms

(l) Requested Limits

(m) Stack Injection

18 AAC 50.320. Construction Permits: Content and Duration (effective 1/18/97)

18 AAC 50.325. Operating Permits: Classifications (effective 1/18/97)

18 AAC 50.330. Operating Permits: Exemptions (effective 1/18/97)

18 AAC 50.335. Operating Permits: Application (effective 1/18/97)

(a) Application Required

(b) Identification

(c) General Emission Information

(d) Fees

(e) Regulated Source Information

(f) Facility-wide Information: Ambient Air Quality

(g) Facility-wide Information: Owner Requested Limits

(h) Facility-wide Information: Emissions Trading

(i) Compliance Information

(j) Proposed Terms and Conditions

(k) Compliance Certifications

(l) Permit Shield

(m) Supporting Documentation

(n) Additional Information

(o) Certification of Accuracy and Completeness

(p) Renewals

(q) Insignificant Sources

(r) Insignificant Sources: Emission Rate Basis

(s) Insignificant Sources: Category Basis

(t) Insignificance Sources: Size or Production Rate Basis

(u) Insignificant Sources: Case-by-Case Basis

(v) Administratively Insignificant Sources

18 AAC 50.340. Operating Permits: Review and Issuance (effective 1/18/97)

(a) Review for Completeness

(b) Evaluation of Complete Applications

(c) Expiration of Application Shield

(d) Preliminary Decision

(e) Public Comment

(f) Record of Public Comment

(g) Final Permit Decision

(i) Permit Continuity

18 AAC 50.345. Operating Permits: Standard Conditions (effective 1/18/97)

18 AAC 50.350. Operating Permits: Content (effective 1/18/97)

(a) Purpose of Section

(b) Standard Requirements

(c) Fee Information

(d) Source-Specific Permit Requirements

(e) Facility-Wide Permit Requirements

(f) Other Requirements

(g) Monitoring Requirements

(h) Records

(i) Reporting Requirements

(j) Compliance Certification

(k) Compliance Plan and Schedule

(l) Permit Shield

18 AAC 50.355. Operating Permits: Changes to a Permitted Facility (effective 1/18/97)

18 AAC 50.360. Operating Permits: Facility Changes that Violate a Permit Condition (effective 1/18/97)

18 AAC 50.365. Operating Permits: Facility Changes that do not Violate a Permit Condition (effective 1/18/97)

18 AAC 50.370. Operating Permits: Administrative Revisions (effective 1/18/97)

18 AAC 50.375. Operating Permits: Minor and Significant Permit Revisions (effective 1/18/97)

18 AAC 50.380. General Operating Permits (effective 1/18/97)

Article 4. User Fees

18 AAC 50.400. Permit Administration Fees (effective 1/18/97)

18 AAC 50.410. Emission Fees (effective 1/18/97)

18 AAC 50.420. Billing Procedures (effective 1/18/97)

Article 9. General Provisions

18 AAC 50.910. Establishing Level of Actual Emissions (effective 1/18/97)

18 AAC 50.990. Definitions (effective 1/18/97)

* * * * *

[FR Doc. 01-26684 Filed 10-22-01; 8:45 am]

BILLING CODE 6560-50-P